DEPARTMENT OF HEALTH AND HUMAN SERVICES

Health Resources and Services Administration

Council on Graduate Medical Education; Notice of Meeting

In accordance with section 10(a)(2) of the Federal Advisory Committee Act (Pub. L. 92-463), notice is hereby given of the following meeting:

Name: Council on Graduate Medical Education (COGME).

Dates and Times: September 13, 2005, 8:30 a.m.—5 p.m.; and September 14, 2005, 8:30 a.m.—12:15 p.m.

Place: Holiday Inn Select, Washington Room (2nd Floor), 8120 Wisconsin Avenue, Bethesda, Maryland 20814.

Status: The meeting will be open to the public.

Agenda: The agenda for September 13 in the morning will include: Welcome and opening comments from the Executive Secretary of COGME and management staff of the Health Resources and Services Administration. Following will be an election of the Chair of COGME. Later that morning there will be a discussion on processes for producing the next COGME report. In the afternoon there will be a discussion of potential report topics.

The agenda for September 14 will include a continued discussion of potential report topics and resolution of the next report topic.

Agenda items are subject to change as priorities dictate.

For Further Information Contact: Anyone requiring information regarding the meeting should contact Jerald M. Katzoff, Deputy Executive Secretary, COGME, Division of Medicine and Dentistry, Bureau of Health Professions, Parklawn Building, Room 9A-27, 5600 Fishers Lane, Rockville, Maryland 20857, Telephone (301) 443-6785.

Dated: August 1, 2005.
Tina M. Cheatham,
Director, Division of Policy Review and Coordination.

[FR Doc. 05-15611 Filed 8-5-05; 8:45 am]

BILLING CODE 4165-15-P